DEPARTMENT OF LABOR

Employment and Training Administration

Investigations Regarding Certifications of Eligibility To Apply for Worker Adjustment Assistance

Petitioners have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided, provided such request is filed in writing with the Director, Division of Trade Adjustment Assistance, at the address shown below, not later than December 10, 2001.

Interested persons are invited to submit written comments regarding the subject matter of the investigations to the Director, Division of Trade Adjustment Assistance, at the address shown below, not later than December 10, 2001

The petitions filed in this case are available for inspection at the Office of the Director, Division of Trade Adjustment Assistance, Employment and Training Administration, U.S. Department of Labor, Room C-5311, 200 Constitution Avenue, NW., Washington, DC 20210.

Signed at Washington, DC this 5th day of November, 2001.
Edward A. Tomchick,
Director, Division of Trade Adjustment Assistance.

Appendix
[Petitions instituted on 11/05/2001]
TA-W | Subject firm (petitioners) | Location | Date of petition | Product(s)
40,308 | Nachi Machining Tech. (USWA) | Macomb, MI | 10/15/2001 | Machine Tooling.
40,309 | Firestone Bridgestone Tube (Wkrs) | Russellville, AR | 10/17/2001 | Inner Tubes.
40,310 | Mulox, Inc. (Wkrs) | Baxley, GA | 10/19/2001 | Flexable Bulk Containers.
40,311 | Buckeye Steel Castings (USWA) | Columbus, OH | 10/17/2001 | Castings—Railroad Cars.
40,312 | Timex Corp. (IAM) | Little Rock, AR | 09/10/2001 | Plastic Watch Bezels.
40,313 | Montgomery Wards (Wkrs) | El Paso, TX | 10/15/2001 | General Retail.
40,314 | Trout Lake Farm (Co.) | Trout Lake, WA | 08/03/2001 | Echinacea Purpurea.
40,315 | BPB America (Wkrs) | Meridian, MS | 10/16/2001 | Ceiling Tile.
40,316 | American Furniture (Wkrs) | Martinsville, VA | 10/04/2001 | Upholstered Chairs, Couches.
40,317 | Texfi Industries (Co.) | Rocky Mountain, NC | 10/15/2001 | Apparel Fabric.
40,318 | Private manufacturing (Wkrs) | El Paso, TX | 10/15/2001 | Warehousing and Distribution of Garments.
40,319 | General Elector (Gemcor) (IAMAW) | West Seneca, NY | 10/16/2001 | Drivematic Fastening Systems.
40,320 | Elk Rapids Engineering (Wkrs) | Elk Rapids, MI | 10/17/2001 | Controlled Machine Tools.
40,321 | Fibermark (PACE) | Rochester, MI | 10/17/2001 | Industrial Grade Filter Papers.
40,322 | Santee Company (The) (Wkrs) | Eden, NC | 10/09/2001 | Knit Apparel.
40,323 | Summitville Carolina (Wkrs) | Morganton, NC | 10/16/2001 | Glased Paver Tiles.
40,324 | Birmingham Steel (USWA) | Joliet, IL | 10/10/2001 | Steel Rebar.
40,325 | Covington Industries (Co.) | Calhoun Falls, SC | 11/09/2001 | Furniture Fabrics.
40,326 | Jones and Vining of ME (Co.) | Lewiston, ME | 10/24/2001 | Polyurethane Shoe Bottoms.
40,327 | Stora Enso/Niagara Mill (Co.) | Niagara, WI | 10/08/2001 | Coated Groundwood Printing Papers.
40,328 | Drexel Heritage (Wkrs) | Morganton, NC | 10/09/2001 | Sawblades, Shaper Knives.
40,329 | D.K. Mold and Engineering (Co.) | Wyoming, MI | 10/23/2001 | Dies for Plastic Molder.
40,330 | Teasdale Tool Corp. (Co.) | Meadville, PA | 10/16/2001 | Mold Inserts and Products.
40,331 | Georgia Pacific West (AWPPW) | Camas, WA | 10/16/2001 | Free Sheet, Magnified Pulp.
40,332 | Creative Leather & Vinyl (Co.) | Milwaukee, WI | 10/18/2001 | Cut and Sew Leather—Shoes.
40,333 | Lynchburg Foundry Co. (Wkrs) | Radford, VA | 09/06/2001 | Metal Castings.
40,334 | Mattel-Murray (Co.) | Murray, KY | 10/26/2001 | Children's Toys.
40,335 | Phelps Dodge Sierrita (Co.) | Green Valley, AZ | 10/26/2001 | Copper Cathodes and Concentrates.
40,336 | Plaid Clothing Co., Inc. (Co.) | Erlanger, KY | 10/29/2001 | Men's Suits, Sport Coats.

[FR Doc. 01-29755 Filed 11-29-01; 8:45 am]

BILLING CODE 4510-30-M